INTERNATIONAL TRADE COMMISSION

[Investigation No. 337-TA-754]

In the Matter of Certain Handbags, Luggage, Accessories, and Packaging Thereof; Notice of Commission Determination Not To Review an Initial Determination Granting Complainants' Motion To Amend the Complaint and Notice of Investigation To Substitute Respondents and To Add Respondents

AGENCY: U.S. International Trade Commission.

ACTION: Notice.

SUMMARY: Notice is hereby given that the U.S. International Trade Commission has determined not to review the presiding administrative law judge's (“ALJ”) initial determination (“ID”) (Order No. 6) granting complainant's motion to amend the complaint and notice of investigation.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 5, 2011, based on a complaint filed by Louis Vuitton Malletier S.A. of Paris, France and Louis Vuitton U.S. Manufacturing, Inc., San Dimas, California (collectively “Louis Vuitton”), based on an Amended Complaint filed December 10, 2010, alleging violations of Section 337 of the Tariff Act of 1930 (19 U.S.C. 1337) in the importation into the United States, the sale for importation, and the sale within the United States after importation of certain handbags, luggage, accessories, and packaging thereof by reason of infringement of certain claims of U.S. Trademark Registration Nos. 297,594; 1,643,625; 1,653,663; 1,875,198; 2,773,107; 2,177,828; 2,181,753; and 1,519,828. 76 FR 585-6 (Jan. 5, 2011). The complainant named as respondents T&T Handbag Industrial Co., Ltd. of Guangzhou, China; Sanjiu Leather Co., Ltd. of Guangzhou, China; Meada Corporation (d/b/a/Diophy Internation) of El Monte, California (“Meada”); Pacpro, Inc. of El Monte, California; Jianyong Zheng (a/k/a/Jui Go Zheng, Jiu An Zheng, Jian Yong Zheng, Peter Zheng) of Arcadia, California; Alice Bei Wang (a/k/a Alice B. Wang) of Arcadia, California (“Alice B. Wang”); Trendy Creations, Inc. of Chatsworth, California; The Inspired Bagger of Dallas, Texas; House of Bags of Los Angeles, California; Ronett Trading, Inc. (d/b/a/Ronett Wholesale & Import) of New York, New York; EZ Shine Group, Inc. of New York, New York; Master of Handbags of Los Angeles, California; Choicehandbags.com, Inc. (d/b/a/Choice Handbags) of Los Angeles, California; and Rasul Enterprises, LLC (d/b/a/The Handbag Warehouse) of Dallas, Texas.

On March 24, 2011, Louis Vuitton filed a motion for leave to amend the Amended Complaint and Notice of Investigation for the following reasons: (1) To add Jiu An Zheng and Jiu Gao Zheng in place of Jianyong Zhen; (2) to add Rimen Leather Co., Ltd., Guangzhou Rimen Leather Goods Company Limited, and Guangzhou Rui Ma Leatherware Co., Ltd., in place of Sanjiu Leather Co., Ltd.; and (3) to add Monhill, Inc. and Zhixian Lu as respondents. On April 1, 2011, respondents Meada and Alice B. Wang filed a response opposing the motion. No other party filed a response.

On April 11, 2011, the ALJ issued the subject ID, granting Louis Vuitton's motion pursuant to Commission Rule 210.14(b) (19 CFR 210.14(b)). No petitions for review of this ID were filed.

The Commission has determined not to review the ID.

The authority for the Commission's determination is contained in Section 337 of the Tariff Act of 1930, as amended (19 U.S.C. 1337), and in section 210.42 of the Commission's Rules of Practice and Procedure (19 CFR 210.42).

By order of the Commission.
Issued: April 27, 2011.
William R. Bishop,
Acting Secretary to the Commission.

[FR Doc. 2011-10551 Filed 4-29-11; 8:45 am]

BILLING CODE 7020-02-P